DEPARTMENT OF EDUCATION

34 CFR Chapter III

[CFDA Number: 84.133B-9.]

Proposed Priority—National Institute on Disability and Rehabilitation Research—Rehabilitation Research and Training Center

AGENCY: Office of Special Education and Rehabilitative Services, Department of Education.

ACTION: Proposed priority.

SUMMARY: The Assistant Secretary for Special Education and Rehabilitative Services proposes a priority for the Rehabilitation Research and Training Center (RRTC) Program administered by the National Institute on Disability and Rehabilitation Research (NIDRR). Specifically, this notice proposes a priority for an RRTC on Community Living and Participation for Individuals with Psychiatric Disabilities. The Assistant Secretary may use this priority for competitions in fiscal year (FY) 2013 and later years. We take this action to focus research attention on an area of national need. We intend the priority to contribute to improved community living and participation for individuals with psychiatric disabilities.

DATES: We must receive your comments on or before April 1, 2013.

ADDRESSES: Address all comments about this notice to Marlene Spencer, U.S. Department of Education, 400 Maryland Avenue SW., room 5133, Potomac Center Plaza (PCP), Washington, DC 20202-2700.

If you prefer to send your comments by email, use the following address: marlene.spencer@ed.gov. You must include the phrase “Proposed Priority for Community Living and Participation for Individuals with Psychiatric Disabilities” in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This notice of proposed priority is in concert with NIDRR's Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training methods to facilitate the advancement of knowledge and understanding of the unique needs of traditionally underserved populations; (3) determine best strategies and programs to improve rehabilitation outcomes for underserved populations; (4) identify research gaps; (5) identify mechanisms for integrating research and practice; and (6) disseminate findings.

This notice proposes one priority that NIDRR intends to use for one or more competitions in FY 2013 and possibly later years. However, nothing precludes NIDRR from publishing additional priorities, if needed. Furthermore, NIDRR is under no obligation to make an award using this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this proposed priority in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of the Rehabilitation Act through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2).

Applicable Program Regulations: 34 CFR part 350.

Proposed Priority: This notice contains one proposed priority.

RRTC on Community Living and Participation for Individuals with Psychiatric Disabilities.

Background:

NIDRR seeks to fund an RRTC that will generate new knowledge about community living and participation for individuals with psychiatric disabilities and serve as a national resource center for individuals with psychiatric disabilities¹ and their families.

¹ Population studies use a variety of terms to describe psychiatric disabilities, including “serious mental illness,” “mental health disorder,” and “psychiatric disability.” In this notice we use the term “psychiatric disability,” except where quoting specific population studies.

Mental health disorders are one of the leading causes of disability in the United States (U.S. Department of Health and Human Services, 2010) with an estimated 13 million adults (approximately 1 in 17) diagnosed with a seriously debilitating mental illness. Individuals with psychiatric disabilities include individuals from diverse geographic, cultural, linguistic, and educational backgrounds, as well as people who may have additional physical, mental, or sensory disabilities (Fellinger, Holzinger, & Pollard, 2012; Gamm, Stone, & Pittman, 2010; Metraux, Caplan, Klugman, & Hadley, 2007).

Most individuals with psychiatric disabilities today live in community settings—a result of the deinstitutionalization movement of the 1960s to 1980s, the Americans with Disabilities Act of 1990, and the 1999 U.S. Supreme Court Olmstead decision (National Council on Disability, 2008; Nelson, 2010; Olmstead v. L.C., 527 U.S. 581 (1999); Salzer, Kaplan, & Atay, 2006). However, despite moving into community settings, many individuals with psychiatric disabilities continue to experience segregation, isolation, stigma, and unequal access in areas such as housing, employment, education, transportation, recreation, health, safety, and family life (National Council on Disability, 2008; Stephan, 2009).

Research has shown that individuals with psychiatric disabilities tend to live disproportionately in the poorest neighborhoods, often with limited access to community resources and in settings that do not adequately promote dignity and independence (Metraux, Brusilovskiy, Prvu-Bettger, Wong, & Salzer, 2012; Metraux, Caplan, Klugman, & Hadley, 2007; National Council on Disability, 2008; Nelson, 2010). Parents with psychiatric disabilities continue to struggle for custody rights of their children (National Council on Disability, 2012; Callow, Buckland, & Jones, 2011). Individuals with psychiatric disabilities from diverse cultural and linguistic backgrounds continue to encounter barriers and ineffective approaches to prevention, treatment, and community inclusion (Hernandez, Nesman, Mowery, Acevedo-Polakovich, & Callejas, 2009). Individuals with psychiatric disabilities also have high rates of unemployment, yet disability-related income support programs create disincentives to work (National Council on Disability, 2008). Finally, an important part of community living is staying safe during emergencies such as natural disasters and terrorist attacks, yet there is very little research on effective emergency preparedness, mitigation, response, or recovery for individuals with psychiatric disabilities (National Council on Disability, 2006; National Council on Disability, 2011).

References

Callow, E., Buckland, K., & Jones, S. (2011). Parents with disabilities in the United States: Prevalence, perspectives, and a proposal for legislative change to protect the right to family in the disability community. Texas Journal on Civil Liberties & Civil Rights, 17(1), 9-41.

Fellinger, J., Holzinger, D., & Pollard, R. (2012). Mental health of deaf people. The Lancet, 379, 1037-1044.

Gamm, L., Stone, S., & Pittman, S. (2010). Mental health and mental disorders—A rural challenge: A literature review. Rural Healthy People, 97-113.

Hernandez, M., Nesman, T., Mowery, D., Acevedo-Polakovich, I.D., & Callejas, L.M. (2009). Cultural competence: A literature review and conceptual model for mental health services. Psychiatric Services, 60(8), 1046-1050.

Metraux, S., Brusilovskiy, E., Prvu-Better, J.A., Wong, Y.I., & Salzer, M. (2012). Geographic access to and availability of community resources for persons diagnosed with severe mental illness. Health and Place, 18, 621-629.

Metraux, S., Caplan, J.M., Klugman, D., & Hadley, T.R. (2007). Assessing residential segregation among Medicaid recipients with psychiatric disability in Philadelphia. Journal of Community Psychology, 35(2), 239-255.

National Council on Disability (2006). The needs of people with psychiatric disabilities during and after Hurricanes Katrina and Rita: Position paper and recommendations. Washington, DC: Author. www.ncd.gov/newsroom/publications/2006/peopleneeds.htm. Accessed January 4, 2013.

National Council on Disability (2008). Inclusive livable communities for people with psychiatric disabilities. Washington, DC: Author. www.ncd.gov/publications/2008/03172008. Accessed January 4, 2013.

National Council on Disability (2011). National disability policy: A progress report. Washington, DC: Author. www.ncd.gov/progress_reports/Oct312011. Accessed January 4, 2013.

National Council on Disability (2012). Rocking the cradle: Ensuring the rights of parents with disabilities and their children. Washington, DC: Author. www.ncd.gov/publications/2012/Sep272012/. Accessed January 4, 2013.

Nelson, G. (2010). Housing approaches for people with serious mental illness: Approaches, evidence, and transformative change. Journal of Sociology and Social Welfare, XXXVII (4), 123-146.

Olmstead v. L.C., 527 U.S. 581 (1999).

Salzer, M., Kaplan, K., & Atay, J. (2006). State psychiatric hospital census after the 1999 Olmstead decision: Evidence of decelerating deinstitutionalization. Psychiatric Services, 57(10), 1501-1504.

Stephan, S. (2009). Beyond residential segregation: The application of Olmstead to segregated employment settings. Georgia State University Law Review, 26 (3), Article 12.

U.S. Department of Health and Human Services, Office of Disease Prevention and Health Promotion (2010). Healthy People 2020. Washington, DC: Author. www.healthypeople.gov/2020/topicsobjectives2020/overview.aspx?topicId=28. Accessed January 4, 2013.

Definitions:

The research that is proposed under this priority must be focused on one or more stages of research. If the RRTC is to conduct research that can be categorized under more than one research stage, or research that progresses from one stage to another, those research stages must be clearly specified. For the purposes of this priority, the stages of research, which we published for comment on January 25, 2013 (78 FR 5330), are:

(i) Exploration and Discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

(ii) Intervention Development means the stage of research that focuses on generating and testing interventions that have the potential to improve outcomes for individuals with disabilities. Intervention development involves determining the active components of possible interventions, developing measures that would be required to illustrate outcomes, specifying target populations, conducting field tests, and assessing the feasibility of conducting a well-designed intervention study. Results from this stage of research may be used to inform the design of a study to test the efficacy of an intervention.

(iii) Intervention Efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(iv) Scale-Up Evaluation means the stage of research during which a project analyzes whether an intervention is effective in producing improved outcomes for individuals with disabilities when implemented in a real-world setting. During this stage of research, a project tests the outcomes of an evidence-based intervention in different settings. The project examines the challenges to successful replication of the intervention, and the circumstances and activities that contribute to successful adoption of the intervention in real-world settings. This stage of research may also include well-designed studies of an intervention that has been widely adopted in practice, but that lacks a sufficient evidence-base to demonstrate its effectiveness.

Proposed Priority:

The Assistant Secretary for Special Education and Rehabilitative Services proposes a priority for an RRTC on Community Living and Participation for Individuals with Psychiatric Disabilities.

The RRTC must contribute to improving the community living and participation outcomes of individuals with psychiatric disabilities by:

(a) Conducting research activities in one or more of the following priority areas, focusing on individuals with psychiatric disabilities as a group or on individuals in specific disability or demographic subpopulations of individuals with psychiatric disabilities:

(i) Technology to improve community living and participation outcomes for individuals with psychiatric disabilities.

(ii) Individual and environmental factors associated with improved community living and participation outcomes for individuals with psychiatric disabilities.

(iii) Interventions that contribute to improved community living and participation outcomes for individuals with psychiatric disabilities. Interventions include any strategy, practice, program, policy, or tool that, when implemented as intended, contributes to improvements in outcomes for individuals with psychiatric disabilities.

(iv) Effects of government practices, policies, and programs on community living and participation outcomes for individuals with psychiatric disabilities.

(v) Practices and policies that contribute to improved community living and participation outcomes for transition-aged youth with psychiatric disabilities;

(b) Focusing research on one or more specific stages of research. If the RRTC plans to conduct research that can be categorized under more than one of the research stages, or research that progresses from one stage to another, those stages must be clearly specified. These stages and their definitions are provided in the Definitions section of this notice; and

(c) Serving as a national resource center related to community living and participation for individuals with psychiatric disabilities, their families, service and support providers, and other stakeholders by conducting knowledge translation activities that include, but are not limited to:

(i) Providing information and technical assistance to service providers, individuals with psychiatric disabilities and their representatives, and other key stakeholders;

(ii) Providing training, including graduate, pre-service, and in-service training, to rehabilitation service providers and other disability service providers, to facilitate more effective delivery of services to individuals with psychiatric disabilities. This training may be provided through conferences, workshops, public education programs, in-service training programs, and similar activities;

(iii) Disseminating research-based information and materials related to community living and participation for individuals with psychiatric disabilities;

(iv) Involving key stakeholder groups in the activities conducted under paragraph (a) in order to maximize the relevance and usability of the new knowledge generated by the RRTC.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that this proposed priority is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RRTC have been completed successfully, and the proposed priority will generate new knowledge through research. The new RRTC will generate, disseminate, and promote the use of new information that would improve outcomes for individuals with disabilities in the areas of community living and participation, employment, and health and function.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 25, 2013.
Michael Yudin,
Acting Assistant Secretary for Special Education and Rehabilitative Services.

[FR Doc. 2013-04695 Filed 2-27-13; 8:45 am]

BILLING CODE 4000-01-P